DEPARTMENT OF TRANSPORTATION

Federal Aviation Administration

Notice of Intent To Rule on Request To Release Airport Land at Brown Field Municipal Airport, San Diego, CA

AGENCY: Federal Aviation Administration, Department of Transportation.

ACTION: Notice of request to release airport land.

SUMMARY: The Federal Aviation Administration (FAA) proposed to rule and invites public comment on the release of approximately 1.5 acres of airport property at Brown Field Municipal Airport, San Diego, California, from all restrictions of the surplus property agreement since the parcel of land is not needed for airport purposes. Reuse of the land for State of California roadway improvements to State Route 905 represents a compatible land use. Sale of the property to the State at the appraised fair market values will be reinvested in airport improvements. The property is not needed for airport purposes and reinvestment of the sale proceeds will benefit the airport and the interests of civil aviation.

DATES: Comments must be received on or before October 16, 2006.

ADDRESSES: Comments on this application may be mailed or delivered in triplicate to the FAA at the following address: Federal Aviation Administration, Airports Division, Federal Register Comment, 15000 Aviation Blvd., Lawndale, CA 90261. In addition, one copy of the comment submitted to the FAA must be mailed or delivered to Mr. Mike C. Tussey, Acting Airports Director, City of San Diego, Montgomery Field Airport, 3750 John J. Montgomery Drive, San Diego, CA 92123.

FOR FURTHER INFORMATION CONTACT: Tony Garcia, Airports Compliance Specialist, Federal Aviation Administration, Airports Division, 15000 Aviation Blvd., Lawndale, CA 90261, telephone (310) 725-3634 and FAX (310) 725-6849. For airport-specific information regarding the release, contact Mr. Mike C. Tussey, Acting Airports Director, at the above address or telephone (858) 573-1441.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds.

Brief Overview of the Request

The City of San Diego, California requested a release from surplus property agreement obligations for approximately 1.5 acres of airport land. The property is separated from the airport and located south of Otay Mesa Road. The land is presently unused, unimproved, and does not generate any income. Due to its location and uneven topography, the property cannot be used for airport purposes nor has it generated revenue for the airport. The release will allow the land to be sold to the State of California to allow the State to make roadway improvements to State Route 905, which runs along the southern boundary of Brown Field and serves as the public access road to the airport. The property will be sold at the appraised market value and the sale proceeds will be reinvested in airport improvement and development. Reuse of the property as a roadway will be compatible with the airport and the reuse of the sale proceeds will benefit the airport, thereby serving the interests of civil aviation.

Issued in Hawthorne, California, on August 9, 2006.
George Aiken,
Manager, Safety and Standards Branch, Airports Division, Western-Pacific Region.

[FR Doc. 06-7632 Filed 9-15-06; 8:45 am]

BILLING CODE 4910-15-M